DEPARTMENT OF HEALTH AND HUMAN SERVICES

Health Resources and Services Administration

Agency Information Collection Activities: Proposed Collection; Comment Request

In compliance with the requirement for the opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer at (301) 443-1129.

Comments are invited on: (a) Whether the proposed collection of information is necessary for the proper performance of the functions of the Agency, including whether the information shall have practical utility; (b) the accuracy of the Agency's estimate of the burden of the proposed collection of information; (c) ways to enhance the quality, utility, and clarity of the information to be collected; and (d) ways to minimize the burden of the collection of information on respondents, including through the use of automated collection techniques or other forms of information technology.

Proposed Project: Evaluation of the Implementation and Outcomes of the Maternal and Child Health Bureau's National Healthy Start Program—NEW

HRSA's Maternal and Child Health Bureau is planning to conduct a survey to collect information concerning Healthy Start, a community-based initiative, to understand how Healthy Start services are expected to change local health care systems and service delivery and ultimately affect maternal and child health outcomes. The purpose of the survey is to collect consistent and comprehensive information across current grantees about their Healthy Start program, its organizational configuration, community context, and the extent to which the program components address service needs and contribute to grantees meeting their Healthy Start goals. A two-part survey consisting of a mail component followed by a telephone follow-up is proposed. The mail survey will focus on obtaining descriptive and quantitative data that is currently not available. The phone survey will be used to obtain grantee assessments of program achievements, factors that facilitated their achievements, and challenges that they faced.

Data collection will cover information on the five service components (case management, health education, outreach, perinatal depression screening, and interconceptional care), and the four systems-building components (consortium, collaboration with Title V, local health systems action plan, and sustainability plan) that comprise the Healthy Start program. Data gathered from the survey will be used to provide HRSA the information necessary to assess the grantees' achievements of three core Healthy Start program goals: (1) Reduced racial and ethnic disparities in access to and utilization of health services; (2) improved local health care system; and (3) increased consumer or community voice in health care decisions. The survey will provide information that is currently unavailable from the service delivery and performance measure data. Based on the data collected in this survey, the National Evaluator will conduct cross-site analyses.

The estimated burden on respondents is as follows:

Respondents | Number of respondents | Hours per respondent | Total burden hour
Grantees | 96 | 4 (assume mail and phone) | 384

The estimated response burden for service providers is as follows:

Send comments to Susan G. Queen, Ph.D., HRSA Reports Clearance Officer, Room 14-45, Parklawn Building, 5600 Fishers Lane, Rockville, MD 20857. Written comments should be received within 60 days of this notice.

Dated: August 18, 2003.
Jane M. Harrison,
Director, Division of Policy Review and Coordination.

[FR Doc. 03-21753 Filed 8-25-03; 8:45 am]

BILLING CODE 4165-15-P